DEPARTMENT OF ENERGY

Federal Energy Regulatory Commission

Combined Notice of Filings #1

Take notice that the Commission received the following electric rate filings:

Docket Numbers: ER10-2331-030; ER14-630-007; ER10-2319-023; ER10-2317-023; ER10-2326-028; ER14-1468-007; ER13-1351-005; ER10-2330-029.

Applicants: J.P. Morgan Ventures Energy Corporation, AlphaGen Power LLC, BE Alabama LLC, BE CA LLC, Cedar Brakes I, L.L.C., KMC Thermo, LLC, Florida Power Development LLC, Utility Contract Funding, L.L.C.

Description: Notice of Non-Material Change in Status of the J.P. Morgan Sellers.

Filed Date: 1/20/15.

Accession Number: 20150120-5468.

Comments Due: 5 p.m. ET 2/10/15.

Docket Numbers: ER10-3131-004.

Applicants: Condon Wind Power, LLC.

Description: Notice of Non-Material Change in Status of Condon Wind Power LLC.

Filed Date: 1/16/15.

Accession Number: 20150116-5322.

Comments Due: 5 p.m. ET 2/6/15.

Docket Numbers: ER10-3297-005.

Applicants: Powerex Corp.

Description: Update to Non-Material Change in Status Filing of Powerex Corp.

Filed Date: 1/16/15.

Accession Number: 20150116-5313.

Comments Due: 5 p.m. ET 2/6/15.

Docket Numbers: ER11-4423-002.

Applicants: Lockport Energy Associates, L.P.

Description: Notice of Non-Material Change in Status of Lockport Energy Associates, L.P.

Filed Date: 1/16/15.

Accession Number: 20150116-5324.

Comments Due: 5 p.m. ET 2/6/15.

Docket Numbers: ER15-114-000; ER15-114-001.

Applicants: Alterna Springerville LLC.

Description: Supplement to October 16, 2014 and December 8, 2014 Alterna Springerville LLC tariff filings.

Filed Date: 1/16/15.

Accession Number: 20150116-5319.

Comments Due: 5 p.m. ET 2/26/15.

Docket Numbers: ER15-360-001.

Applicants: Southwest Power Pool, Inc.

Description: Compliance filing per 35: 2896 Hale Community Energy, LLC GIA Compliance Filing to be effective 5/29/2014.

Filed Date: 1/20/15.

Accession Number: 20150120-5344.

Comments Due: 5 p.m. ET 2/10/15.

Docket Numbers: ER15-876-000.

Applicants: Malaga Power, LLC.

Description: Initial rate filing per 35.12 MBR Application to be effective 2/17/2015.

Filed Date: 1/16/15.

Accession Number: 20150116-5295.

Comments Due: 5 p.m. ET 2/6/15.

Docket Numbers: ER15-877-000.

Applicants: Entergy Nuclear Vermont Yankee, LLC.

Description: Tariff Withdrawal per 35.15: ENVY Notice of Cancellation of Market-Based Rate Tariff to be effective 1/12/2015.

Filed Date: 1/20/15.

Accession Number: 20150120-5000.

Comments Due: 5 p.m. ET 2/10/15.

Docket Numbers: ER15-878-000.

Applicants: Occidental Power Services, Inc.

Description: Initial rate filing per 35.12 Proposed Rate Schedule Filing to be effective 4/1/2015.

Filed Date: 1/20/15.

Accession Number: 20150120-5001.

Comments Due: 5 p.m. ET 2/10/15.

Docket Numbers: ER15-879-000.

Applicants: Southwest Power Pool, Inc.

Description: § 205(d) rate filing per 35.13(a)(2)(iii): 2446R1 Municipal Energy Agency of Nebraska NITSA and NOA to be effective 12/1/2014.

Filed Date: 1/20/15.

Accession Number: 20150120-5254.

Comments Due: 5 p.m. ET 2/10/15.

Docket Numbers: ER15-880-000.

Applicants: Peaker LLC.

Description: Tariff Withdrawal per 35.15: Notice of Cancellation to be effective 1/21/2015.

Filed Date: 1/20/15.

Accession Number: 20150120-5316.

Comments Due: 5 p.m. ET 2/10/15.

Docket Numbers: ER15-881-000.

Applicants: PacifiCorp.

Description: § 205(d) rate filing per 35.13(a)(2)(iii): Noble Americas Energy Solutions NITSA Rev 8 to be effective 1/1/2015.

Filed Date: 1/20/15.

Accession Number: 20150120-5424.

Comments Due: 5 p.m. ET 2/10/15.

Docket Numbers: ER15-882-000.

Applicants: PacifiCorp.

Description: § 205(d) rate filing per 35.13(a)(2)(iii): Exelon Generation NITSA to be effective 1/1/2015.

Filed Date: 1/20/15.

Accession Number: 20150120-5426.

Comments Due: 5 p.m. ET 2/10/15.

Docket Numbers: ER15-883-000.

Applicants: Southern California Edison Company.

Description: § 205(d) rate filing per 35.13(a)(2)(iii): Unexecuted GIA and Distribut Serv Agmt San Gorgonio Weswinds II, Difwind Farms to be effective 1/20/2015.

Filed Date: 1/20/15.

Accession Number: 20150120-5431.

Comments Due: 5 p.m. ET 2/10/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 20, 2015.
Nathaniel J. Davis, Sr.,
Deputy Secretary.

[FR Doc. 2015-01288 Filed 1-23-15; 8:45 am]

BILLING CODE 6717-01-P